DEPARTMENT OF THE TREASURY

Internal Revenue Service

26 CFR Part 46

[REG-125450-01]

RIN 1545-AY93

Liability for Insurance Premium Excise Tax; Hearing Cancellation

AGENCY: Internal Revenue Service (IRS), Treasury.

ACTION: Cancellation of notice of public hearing on proposed rulemaking.

SUMMARY: This document provides notice of cancellation of a public hearing on proposed regulations relating to liability for insurance premium excise tax.

DATES: The public hearing originally scheduled for Tuesday, March 19, 2002, at 10 a.m., is cancelled.

FOR FURTHER INFORMATION CONTACT: Guy Traynor, Regulations Unit, Assistant Chief Counsel (Income Tax & Accounting), (202) 622-7180 (not a toll-free number).

SUPPLEMENTARY INFORMATION: A notice of proposed rulemaking and notice of public hearing that appeared in the Federal Register on January 7, 2002 (67 FR 707), announced that a public hearing was scheduled for March 19, 2002 at 10 a.m., in room 4718 of the Internal Revenue Building, 1111 Constitution Avenue NW., Washington, DC. The subject of the public hearing is proposed regulations under section 4371 of the Internal Revenue Code. The public comment period for these proposed regulations expired on February 26, 2002. The notice of proposed rulemaking and notice of public hearing, instructed those interested in testifying at the public hearing to submit a request to speak and an outline of the topics to be addressed. As of January 7, 2002, no one has requested to speak. Therefore, the public hearing scheduled for March 19, 2002 is cancelled.

Cynthia E. Grigsby,
Chief, Regulations Unit, Associate Chief Counsel, (Income Tax & Accounting).

[FR Doc. 02-5484 Filed 3-7-02; 8:45 am]

BILLING CODE 4830-01-P